DEPARTMENT OF ENERGY

Federal Energy Regulatory Commission

Combined Notice of Filings #1

Take notice that the Commission received the following electric rate filings:

Docket Numbers: ER17-2059-004; ER10-3097-009.

Applicants: Puget Sound Energy, Inc., Bruce Power Inc.

Description: Second Supplement to July 1, 2019 Updated Market Power Analysis in the Northwest Region for Puget Sound Energy, Inc., et al.

Filed Date: 2/24/20.

Accession Number: 20200224-5156.

Comments Due: 5 p.m. ET 3/16/20.

Docket Numbers: ER19-1958-002.

Applicants: PJM Interconnection, L.L.C.

Description: Compliance filing: Compliance filing per Commission's 12/19/19 order re: Order No. 845 in ER19-1958 to be effective 12/31/9998.

Filed Date: 2/21/20.

Accession Number: 20200221-5143.

Comments Due: 5 p.m. ET 3/13/20.

Docket Numbers: ER20-495-001.

Applicants: Midcontinent Independent System Operator, Inc.

Description: Tariff Amendment: 2020-02-24_SA 3380 Deficiency Response for J639 GIA to be effective 11/15/2019.

Filed Date: 2/24/20.

Accession Number: 20200224-5096.

Comments Due: 5 p.m. ET 3/16/20.

Docket Numbers: ER20-612-001.

Applicants: Midcontinent Independent System Operator, Inc.

Description: Tariff Amendment: 2020-02-24_SA 3392 Deficiency Response for J944 GIA to be effective 12/3/2019.

Filed Date: 2/24/20.

Accession Number: 20200224-5098.

Comments Due: 5 p.m. ET 3/16/20.

Docket Numbers: ER20-886-000.

Applicants: Orsted US Trading LLC.

Description: Errata to January 28, 2020 Orsted US Trading LLC tariff filing.

Filed Date: 2/21/20.

Accession Number: 20200221-5071.

Comments Due: 5 p.m. ET 3/13/20.

Docket Numbers: ER20-1068-000.

Applicants: The Dayton Power and Light Company.

Description: Application to Establish Incentive Rate Treatment for Qualifying for Transmission Projects, et al. of The Dayton Power and Light Company.

Filed Date: 2/25/20.

Accession Number: 20200225-5081.

Comments Due: 5 p.m. ET 3/17/20.

Docket Numbers: ER20-1069-000.

Applicants: Duke Energy Carolinas, LLC.

Description: § 205(d) Rate Filing: Revised DEC-CEPCI NITSA (SA No. 447) to be effective 2/1/2020.

Filed Date: 2/25/20.

Accession Number: 20200225-5090.

Comments Due: 5 p.m. ET 3/17/20.

Docket Numbers: ER20-1070-000.

Applicants: Rodan Energy Solutions (USA) Inc.

Description: Baseline eTariff Filing: RODAN ENERGY SOLUTIONS (USA) INC INITIAL MBR Tariff to be effective 4/1/2020.

Filed Date: 2/25/20.

Accession Number: 20200225-5095.

Comments Due: 5 p.m. ET 3/17/20.

Docket Numbers: ER20-1071-000.

Applicants: Southwest Power Pool, Inc.

Description: § 205(d) Rate Filing: Revisions to Attachment AN to be effective 4/26/2020.

Filed Date: 2/25/20.

Accession Number: 20200225-5122.

Comments Due: 5 p.m. ET 3/17/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 25, 2020.
Nathaniel J. Davis, Sr.,
Deputy Secretary.

[FR Doc. 2020-04231 Filed 2-28-20; 8:45 am]

BILLING CODE 6717-01-P